SURFACE TRANSPORTATION BOARD

[Docket No. FD 36556]

Union Pacific Railroad Company—Trackage Rights Exemption—BNSF Railway Company

Union Pacific Railway Company (UP), a Class I rail carrier, has filed a verified notice of exemption under 49 CFR 1180.2(d)(7) for renewal of trackage rights on a rail line owned by BNSF Railway Company (BNSF) between milepost 9 plus 1487.0 feet and milepost 10 plus 3570.0 feet, a total distance of approximately 1.39 miles, in or near Riverside, Cal. (the Line).

According to the verified notice, UP originally acquired trackage rights pursuant to an agreement dated July 10, 1984.¹ UP and BNSF have agreed to a written amendment dated June 25, 2021, extending the term of the 1984 agreement.² UP states that operations will continue as they have since 1984 without material change.

¹ See Union Pac. R.R. & Los Angeles & Salt Lake R.R.—Aban. & Acquis. of Trackage Rts. over ATSF Ry., FD 30015 (ICC served Sept. 10, 1982).

² An unredacted copy of the amendment is attached to the verified notice.

The transaction may be consummated on or after November 28, 2021, the effective date of the exemption (30 days after the verified notice was filed).

As a condition to this exemption, any employees affected by the acquisition of the trackage rights will be protected by the conditions imposed in Norfolk & Western Railway—Trackage Rights—Burlington Northern, Inc., 354 I.C.C. 605 (1978), as modified in Mendocino Coast Railway—Lease & Operate—California Western Railroad, 360 I.C.C. 653 (1980).

If the notice contains false or misleading information, the exemption is void ab initio. Petitions to revoke the exemption under 49 U.S.C. 10502(d) may be filed at any time. The filing of a petition to revoke will not automatically stay the effectiveness of the exemption. Petitions for stay must be filed no later than November 19, 2021.

All pleadings, referring to Docket No. FD 36556, should be filed with the Surface Transportation Board via e-filing on the Board's website. In addition, a copy of each pleading must be served on UP's representative, Jeremy Berman, 1400 Douglas St., Union Pacific Railroad Company, STOP 1580, Omaha, NE 68179.

According to UP, this action is categorically excluded from environmental review under 49 CFR 1105.6(c)(3) and from historic preservation reporting requirements under 49 CFR 1105.8(b)(3).

Board decisions and notices are available at www.stb.gov.

Decided: November 8, 2021.
By the Board, Scott M. Zimmerman, Acting Director, Office of Proceedings.
Tammy Lowery,
Clearance Clerk.

[FR Doc. 2021-24703 Filed 11-10-21; 8:45 am]

BILLING CODE 4915-01-P